DEPARTMENT OF THE INTERIOR

Bureau of Land Management

[WO-830-1030XP-02 241A]

Information Collection Activities; Proposed Collection; Comments Request

AGENCY: Bureau of Land Management, Interior.

ACTION: Notice and request for comments.

SUMMARY: In accordance with the Paperwork Reduction Act of 1995, the Bureau of Land Management (BLM) announces its intention to request approval a new collection of information. The BLM is soliciting comments concerning a proposed collection of information that would conduct surveys of the public in two user groups, state and local governments and stakeholders and partners.

DATES: Written comments for the proposed collection must be received by May 16, 2000 to assure consideration.

ADDRESSES: If you wish to comment, you may submit your comments by one of several methods. You may mail them to Andrew Goldsmith, Management Systems Group, Business and Fiscal Resources Directorate, Bureau of Land Management, 1849 C Street, NW, Room LS 1000, Washington, DC 20240. You may comment via e-mail to andrew_goldsmith@blm.gov. You may also fax your comments to 202-453-5171.

Comments, including names and street addresses of respondents, will be available for public review.

Finally, you may hand-deliver comments to the Bureau of Land Management at 1620 L Street, NW, Room 1000, Washington, DC.

FOR FURTHER INFORMATION CONTACT: Andrew Goldsmith, Bureau of Land Management, at 202-452-5169.

NATURE OF COMMENTS: In accordance with 5 CFR 1320.12(a), the BLM is required to provide 60-day notice in the Federal Register concerning a collection of information contained in proposed rules or other documents to solicit comments on: (1) Whether the collection of information is necessary for the proper functioning of the BLM; (2) the accuracy of our estimates of the burden of collecting the information, including the validity of the methodology and assumptions used; (3) the quality, utility, and clarity of the information collected; and (4) how to minimize the burden of collecting the information on those who are to respond, including using the appropriate automated, electronic, mechanical or other forms of information technology. The BLM will receive and analyze any comments sent in response to this notice and include them with its request for approval under 44 U.S.C. 3501 et seq. to the Office of Management and Budget.

SUPPLEMENTARY INFORMATION:

I. Background

II. Current Actions

III. Methodology

IV. Requests for Comments

I. Background

The Government performance and Results Act of 1993 (Public Law 103-63) sets out to improve Federal program effectiveness and public accountability by promoting a new focus on results, service quality, and customer satisfaction (Section 2. B. 3). In order to fulfill this responsibility, the BLM must collect data from its user groups to better understand the needs and desires of the public and respond to those needs and desires accordingly.

This course of action is fortified by Executive Order 12862, signed by President Clinton on September 11, 1993, aimed at ensuring the federal government provides the highest quality service possible to the American people. The Order discusses surveys as a means for determining the kinds and qualities of services desired by the federal government's customers and for determining satisfaction levels for existing services. These voluntary customer surveys will be used to ascertain customer satisfaction with the BLM in terms of services and products. Respondents will be individuals that are the recipients of the BLM services and products. Previous customer surveys have provided useful information to the BLM for assessing how well the Bureau delivers our services and products and for making improvements. The results are used internally and summaries are provided to the Office of Management and Budget on an annual basis and are used to satisfy the requirements and spirit of Executive Order No. 12862.

II. Current Actions

The request to OMB will be for a 3-year clearance to conduct customer surveys for the BLM. During the past clearance cycle the BLM conducted four different customer surveys by telephone. (Examples of previously conducted customer surveys are available upon request.) Our planned activities in the next three fiscal years reflect our increased emphasis on and expansion of these activities.

III. Methodology

The BLM will survey customers in the following general categories: (1) Stakeholders and partners and (2) state and local governments. A randomized sampling technique is employed for both of these categories if there are more than 200 people in a state's database. If there are less than 200 individuals, a census, counting everyone, will be utilized. An 80 percent response rate goal has been set; for this reason, whenever possible telephone surveys are chosen over mail surveys for their increased response rates.

The questionnaires are developed with the help of focus groups from around the country. The BLM asks questions in the following general areas: (1) Communication with the public; (2) service quality and accountability; (3) information and education services; (4) resource management; (5) overall satisfaction; and (6) general demographics.

IV. Requests for Comments

Prospective respondents and other interested parties should comment on the actions of discussed in items II & III. The following guidelines are provided to assist you in responding.

General Issues

A. Is the proposed collection of information necessary, taking into account its accuracy, adequacy, and reliability, and the agency's ability to process the information it collects in a useful and timely fashion?

B. What enhancements can the BLM make to the quality, utility, and clarity of the information to be collected?

As a Potential Respondent

A. The average public reporting burden for a customer survey is estimated to be .25 hours per response (1720 respondents per year × 15 minutes per response = 430 hours annually). Burden includes the total time, effort, or financial resources expended to generate, maintain, retain, or disclose or provide the information including: (1) Reviewing instructions; (2) developing, acquiring, installing, and utilizing technology and systems for purposes of collecting, validating, verifying, processing, maintaining, disclosing, and providing information; (3) adjusting the existing way to comply with any previously applicable instructions and requirements; (4) training personnel to respond to a collection of information; (5) searching data sources; (6) completing and reviewing the collection of information; and (7) transmitting or otherwise disclosing the information.

Please comment on the accuracy of our estimate and how the BLM could minimize the burden of collecting the information, including the use of automated collection techniques.

B. The BLM estimates that respondents will incur no additional costs for reporting other than the time required to complete the collection. What are the estimated total dollar amount annualized for capital and start-up costs and recurring annual dollar amount of operation and maintenance and purchase of services costs associated with this data collection? The estimates should take into account the costs associated with generating, maintaining, and disclosing or providing information.

C. Do you know of any other federal, state, or local agency that collects similar data? If you do, specify the agency, collection element(s), and the methods of collection.

As a Potential User

Are there any alternative sources of data and do you use them? If so, what are their deficiencies and/or strengths?

Comments submitted in response to this notice will be summarized and/or included in the request for OMB approval of the survey. They also will become a matter of public record.

Dated: March 14, 2000.
Carole Smith,
BLM Information Clearance Officer.

[FR Doc. 00-6666 Filed 3-16-00; 8:45 am]

BILLING CODE 4310-84-M